ENVIRONMENTAL PROTECTION AGENCY

[Region 4 Library; FRL-10017-91-Region 4]

Notice of Library Changes

AGENCY: Environmental Protection Agency (EPA).

ACTION: Informational notice.

SUMMARY: The Environmental Protection Agency (EPA) is issuing this notice to advise the public of upcoming changes to the Region 4 Library. Region 4 will be reducing the size of its library space, decreasing the amount of print materials maintained in its collection, and ceasing all on-site library support services. The library will retain a small, targeted collection of reference material on-site which will be accessible by appointment only to EPA staff and the public (For appointments, see contact information below). In addition, EPA staff and the public will continue to have remote access to the full suite of library services available at EPA through the Andrew W. Breidenbach Environmental Research Center (AWBERC) Library, located in Cincinnati, Ohio. The AWBERC Library can be reached by email (CI_AWBERC_Library@epa.gov) or by phone (513-569-7703). For more information about the EPA National Library Network and its information resources and services, visit https://www.epa.gov/libraries.

DATES: Region 4's Library changes will be effective February 1, 2021.

FOR FURTHER INFORMATION CONTACT: The Region 4 Federal Library Manager, Shayla Patillo at (404) 562-8385 or via electronic mail at patillo.shayla@epa.gov.

Dated: December 14, 2020.
Mary Walker,
Regional Administrator, Region 4.

[FR Doc. 2020-28102 Filed 12-18-20; 8:45 am]

BILLING CODE 6560-50-P